DEPARTMENT OF ENERGY

Federal Energy Regulatory Commission

Combined Notice of Filings #1

Take notice that the Commission received the following electric rate filings:

Docket Numbers: ER21-2755-000.

Applicants: Effingham County Power, LLC.

Description: Amendment to August 24, 2021 Effingham County Power, LLC tariff filing.

Filed Date: 10/8/21.

Accession Number:20211008-5235.

Comment Date: 5 p.m. ET 10/15/21.

Docket Numbers: ER21-2774-001.

Applicants: PJM Interconnection, L.L.C.

Description: Tariff Amendment: Amendment to Revisions to Sch. 12-Appx A: July 2021 RTEP to be effective 11/24/2021.

Filed Date: 10/8/21.

Accession Number: 20211008-5268.

Comment Date: 5 p.m. ET 10/29/21.

Docket Numbers: ER22-70-000.

Applicants: Tucson Electric Power Company.

Description: § 205(d) Rate Filing: Rate Schedule No. 348, Concurrence to CAISO RS No. 6889 to be effective 12/1/2021.

Filed Date: 10/8/21.

Accession Number: 20211008-5095.

Comment Date: 5 p.m. ET 10/29/21.

Docket Numbers: ER22-71-000.

Applicants: Golden Spread Electric Cooperative, Inc.

Description: § 205(d) Rate Filing: WPC TCEC Ex A and C Filing to be effective 10/1/2021.

Filed Date: 10/8/21.

Accession Number: 20211008-5101.

Comment Date: 5 p.m. ET 10/29/21.

Docket Numbers: ER22-72-000.

Applicants: PJM Interconnection, L.L.C.

Description: § 205(d) Rate Filing: Original ISA and ICSA, Service Agreement Nos. 6198 and 6199; Queue No. AE1-104 to be effective 9/9/2021.

Filed Date: 10/8/21.

Accession Number: 20211008-5109.

Comment Date: 5 p.m. ET 10/29/21.

Docket Numbers: ER22-73-000.

Applicants: Northern States Power Company, a Minnesota corporation.

Description: Tariff Amendment: 2021-10-08 NSP-GFLS-A&R TSA-436-NOC-0.1.0 to be effective 12/31/2021.

Filed Date: 10/8/21.

Accession Number: 20211008-5194.

Comment Date: 5 p.m. ET 10/29/21.

Docket Numbers: ER22-74-000.

Applicants: Midcontinent Independent System Operator, Inc.

Description: Compliance filing: 2021-10-08_STR Tariff Waiver Request to be effective N/A.

Filed Date: 10/8/21.

Accession Number: 20211008-5224.

Comment Date: 5 p.m. ET 10/29/21.

Docket Numbers: ER22-75-000.

Applicants: Midcontinent Independent System Operator, Inc.

Description: § 205(d) Rate Filing: 2021-10-08_STR Regulating Reserve Tariff filing to be effective 5/1/2022.

Filed Date: 10/8/21.

Accession Number: 20211008-5225.

Comment Date: 5 p.m. ET 10/29/21.

Docket Numbers: ER22-76-000.

Applicants: Florida Power & Light Company.

Description: § 205(d) Rate Filing: FPL and Seminole Pseudo-Tie Agreement for Seminole's Delivery Points to be effective 10/9/2021.

Filed Date: 10/8/21.

Accession Number: 20211008-5227.

Comment Date: 5 p.m. ET 10/29/21.

Docket Numbers: ER22-77-000.

Applicants: Southern California Edison Company.

Description: § 205(d) Rate Filing: DSA Homestead Energy Storage SA No. 1158 WDT1710 to be effective 12/8/2021.

Filed Date: 10/8/21.

Accession Number: 20211008-5230.

Comment Date: 5 p.m. ET 10/29/21.

Docket Numbers: ER22-78-000.

Applicants: Idaho Power Company.

Description: § 205(d) Rate Filing: SA 424—PowerEx—Jeff to Bora to be effective 4/1/2022.

Filed Date: 10/8/21.

Accession Number: 20211008-5243.

Comment Date: 5 p.m. ET 10/29/21.

Docket Numbers: ER22-79-000.

Applicants: Duke Energy Progress, LLC.

Description: § 205(d) Rate Filing: DEP-Powells Creek ASOA SA No. 365 to be effective 12/8/2021.

Filed Date: 10/8/21.

Accession Number: 20211008-5253.

Comment Date: 5 p.m. ET 10/29/21.

Docket Numbers: ER22-80-000.

Applicants: Coyote Ridge Wind, LLC.

Description: Baseline eTariff Filing: Filing of Reactive Supply Service Rate Schedule FERC No. 1 to be effective 10/12/2021.

Filed Date: 10/8/21.

Accession Number: 20211008-5266.

Comment Date: 5 p.m. ET 10/29/21.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2021.
Debbie-Anne A. Reese,
Deputy Secretary.

[FR Doc. 2021-22495 Filed 10-14-21; 8:45 am]

BILLING CODE 6717-01-P